OFFICE OF THE UNITED STATES TRADE REPRESENTATIVE

Charter Reestablishment of the Intergovernmental Policy Advisory Committee on Trade (IGPAC); Request for Nominations

AGENCY: Office of the United States Trade Representative.

ACTION: Notice of Reestablishment of the Charter and Request for Nominations.

SUMMARY: The Office of the United States Trade Representative (“USTR”), pursuant to Section 135 of the Trade Act of 1974 (19 U.S.C. 2155(c)(3)(A)), as amended, the Federal Advisory Committee Act (5 U.S.C. App.), as amended, announces the reestablishment of the charter of the Intergovernmental Policy Advisory Committee on Trade (IGPAC), a federal advisory committee established to provide overall policy advice on trade policy matters that have a significant relationship to the affairs of state and local governments within the jurisdiction of the United States. The Charter will be effective for four years from the date the charter is filed, unless otherwise extended. USTR is seeking nominations for membership on the Committee.

DATES: In order to receive full consideration, nominations for current vacancies should be received not later than May 1. Nominations will be accepted after that date until the expiration of the charter term, which is four years from the date of filing, for appointments on a rolling basis as vacancies arise.

ADDRESSES: Submissions should be sent to the Office of the U.S. Trade Representative, Office of Intergovernmental Affairs and Public Engagement at IAPE@ustr.eop.gov. For alternatives to email submission, please contact Cece Jones at (202) 395-6120.

FOR FURTHER INFORMATION CONTACT: Questions regarding this request for nominations should be directed to Karen Lezny, Office of the U.S. Trade Representative, Office for Intergovernmental Affairs and Public Engagement, at (202) 395-6120.

SUPPLEMENTARY INFORMATION:

Background

Section 135 of the Trade Act of 1974, as amended (19 U.S.C. 2155), established a trade advisory system to obtain information and advice from the private and public sectors to ensure that the development, implementation, and administration of U.S. trade policy, operation of any trade agreements once entered into, and trade negotiation objectives before entering into a trade agreement adequately reflect U.S. commercial and economic interests.

Section 135(a)(1) directs the President to:

Seek information and advice from representative elements of the private sector and the non-Federal governmental sector with respect to

(A) negotiating objectives and bargaining positions before entering into a trade agreement under title I of the Trade Act of 1974 (19 U.S.C. 2111 et seq.) or section 2103 of the Bipartisan Trade Promotion Authority Act of 2002 (19 U.S.C. 3808(a)(1)(A).

(B) the operation of any trade agreement once entered into, including preparation for dispute settlement panel proceedings to which the United States is a party; and

(C) other matters arising in connection with the development, implementation, and administration of the trade policy of the United States.

Section 135(a)(2) directs the President to:

Consult with representative elements of the private sector and the non-Federal governmental sector on the overall current trade policy of the United States. The consultations shall include, but are not limited to, the following elements of such policy:

(A) The principal multilateral and bilateral trade negotiating objectives and the progress being made toward their achievement.

(B) The implementation, operation, and effectiveness of recently concluded multilateral and bilateral trade agreements and resolution of trade disputes.

(C) The actions taken under the trade laws of the United States and the effectiveness of such actions in achieving trade policy objectives.

(D) Important developments in other areas of trade for which there must be developed a proper policy response.

Section 135(c)(3) provides that:

[t]he President may, if necessary, establish policy advisory committees representing non-Federal governmental interests to provide policy advice on matters referred to in subsection (a) of this section, and with respect to implementation of trade agreements. Pursuant to these provisions, the United States Trade Representative (USTR) is reestablishing the charter of the Intergovernmental Policy Advisory Committee on Trade (IGPAC).

Functions

The duties of the IGPAC are to advise, consult with, make policy recommendations, and provide information to the USTR on matters that have a significant relationship to the affairs of state and local governments within the jurisdiction of the United States. The Committee will meet as needed at the call of the U.S. Trade Representative or his designee depending on various factors such as the level of activity of trade negotiations and the needs of the U.S. Trade Representative, or at the call of two-thirds of the members of the Committee.

Membership

Members serve without compensation and are responsible for all expenses incurred to attend the meetings. IGPAC members are appointed by the USTR. Appointments are made at the chartering of the IGPAC and periodically throughout the four-year charter term. Members serve at the discretion of the USTR.

Members are selected to represent non-Federal governmental entities' interests, and thus nominees are considered foremost based upon their ability to carry out the goals of section 135(c)(3)(A) of the Trade Act of 1974, as amended. Other criteria considered are the nominee's knowledge of and expertise in international trade issues. Appointments to the IGPAC are made without regard to political affiliation.

All IGPAC members must be able to obtain and maintain a security clearance.

Request for Nominations

USTR is soliciting nominations for membership on the IGPAC. In order to be appointed to the IGPAC, the following eligibility requirements must be met:

1. The applicant must be a U.S. citizen;

2. The applicant must not be a federally-registered lobbyist;

3. The applicant must not be registered with the Department of Justice under the Foreign Agents Registration Act;

4. The applicant must be able to obtain and maintain a security clearance; and

5. The applicant must represent a non-Federal governmental entity.

In order to be considered for IGPAC membership, a nominee should submit:

(1) Name, title, affiliation, and relevant contact information of the individual requesting consideration;

(2) A sponsor letter on the non-federal government entity's letterhead containing a brief description of the manner in which international trade affects the entity and why the applicant should be considered for membership;

(3) The applicant's personal resume;

(4) An affirmative statement that the applicant and the non-federal government entity he or she represents meet all eligibility requirements;

(5) An affirmative statement that the applicant is not a federally registered lobbyist, and that the applicant understands that if appointed, the applicant will not be allowed to continue to serve as an IGPAC member if the applicant becomes a federally registered lobbyist.

As noted, members of the Committee are appointed to represent the views of their non-federal government entities. As such, Committee members will generally serve as representatives of those entities and not as Special Government Employees.

Applicants that meet the eligibility criteria will be considered for membership based on the following criteria: ability to represent the sponsoring non-federal government entity's interests on trade matters; knowledge of and experience in trade matters relevant to the work of the Committee; and ensuring that the Committee members are appointed from and are reasonably representative of the various states and other non-Federal governmental entities within the jurisdiction of the United States, including but not limited to, the executive and legislative branches of state, county, and municipal governments.

Dated: March 27, 2014.
Jewel James,
Assistant U.S. Trade Representative, Intergovernmental Affairs and Public Engagement.

[FR Doc. 2014-07262 Filed 3-31-14; 8:45 am]

BILLING CODE 3290-F4-P